DEPARTMENT OF VETERANS AFFAIRS

Advisory Committee on Women Veterans, Notice of Meeting

The Department of Veterans Affairs (VA) gives notice under the Federal Advisory Committee Act that the Advisory Committee on Women Veterans will conduct a virtual site visit on August 24-27, 2021, with the Veterans Integrated Service Network (VISN) 20: Northwest Network and the VA Portland Health Care System (VAPORHCS) in Portland, OR.

Date: | Time: | Location:
August 24, 2021 | 10:00 a.m.-2:30 p.m. (PT) | See Webex link and call-in information below.
August 25, 2021 | 10:00 a.m.-2:30 p.m. (PT) | See Webex link and call-in information below.
August 26, 2021 | 10:00 a.m.-2:00 p.m. (PT) | See Webex link and call-in information below.
August 27, 2021 | 10:00 a.m.-11:00 p.m. (PT) | See Webex link and call-in information below.

The purpose of the Committee is to advise the Secretary of Veterans Affairs regarding the needs of women Veterans with respect to health care, rehabilitation, compensation, outreach and other programs and activities administered by VA designed to meet such needs. The Committee makes recommendations to the Secretary regarding such programs and activities.

On Tuesday, August 24, the agenda includes overviews of: VISN 20's facilities and programs; an overview of VISN 20 services for women Veterans; and an overview of VAPORHCS facilities, programs and community partners.

On Wednesday, August 25, the agenda includes a continuation of briefings on VAPORHCS' programs and services for women Veterans. On Thursday, August 26, the agenda includes briefings on: Oregon State services and initiatives for women Veterans; an overview of Portland Regional Benefits Office's business lines and initiatives; and an overview of Willamette National Cemetery's services and programs.

On Friday, August 27, the committee will conduct an out-briefing with leadership from VISN 20, VAPORHCS, Portland Regional Benefits Office and Willamette National Cemetery. From 11:30 a.m.-12:30 p.m., the Committee will observe a women Veterans town hall meeting hosted by the VAPORHCS. The meeting sessions and town hall meeting are open to the public. Information about the town hall meeting will be provided to the public by the VAPORHCS.

No time will be allocated at this meeting for receiving oral presentations from the public. Interested parties should provide written comments for review by the Committee to Ms. Shannon L. Middleton at 00W@mail.va.gov no later than August 13. Any member of the public who wishes to participate in the virtual site visit may use the following WebEx link: https://veteransaffairs.webex.com/veteransaffairs/j.php?MTID=m0811fbff8f35b9c770c5d88657d99b68; meeting number: 199 198 2364; password: aiPG43Znt*7. Participants can also join by phone (toll free) at 1-404-397-1596; access code: 199 198 2364##.

Dated: July 27, 2021.
Jelessa M. Burney,
Federal Advisory Committee Management Officer.

[FR Doc. 2021-16371 Filed 7-30-21; 8:45 am]

BILLING CODE P